DEPARTMENT OF HOUSING AND URBAN DEVELOPMENT

[Docket No. FR-5117-62]

Notice of Proposed Information; Collection: Comment Request; Grant Application Program Specific Logic Model

AGENCY: Office of Administration, HUD.

ACTION: Notice.

SUMMARY: The proposed information collection requirement described below will be submitted to the Office of Management and Budget (OMB) for review, as required by the Paperwork Reduction Act. The Department is soliciting public comments on the subject proposal.

DATES: Comments due: October 9, 2007.

ADDRESSES: Interested persons are invited to submit comments regarding this proposal. Comments should refer to the proposal by name and/or OMB Control Number and should be sent to: Lillian L. Deitzer, Departmental Reports Management Officer, QDAM, Department of Housing and Urban Development, 451 Seventh Street, SW., Room 4176, Washington, DC 20410; telephone: 202-708-2374 (this is not a toll-free number) or e-mail Ms. Deitzer at Lillian_L._Deitzer@HUD.gov for a copy of the proposed form and other available information.

FOR FURTHER INFORMATION CONTACT: Rita Yorkshire, AJT, Office of Departmental Grants Management and Oversight, Department of Housing and Urban Development, 451 Seventh Street, SW., Washington, DC 20410; telephone 202-708-0667 (this is not a toll-free number).

SUPPLEMENTARY INFORMATION: The Department will submit the proposed information collection to OMB for review, as required by the Paperwork Reduction Act of 1995 (44 U.S.C. Chapter 35, as amended).

This Notice is soliciting comments from members of the public and affecting agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond; including through the use of appropriate automated collection techniques or other forms of information technology, e.g., permitting electronic submission of responses.

This Notice also lists the following information:

Title of Proposal: Grant Application Program Specific Logic Model.

OMB Control Number, if applicable: 2535-0114.

Description of the need for the information and proposed use: Applicants of HUD Federal Financial Assistance are required to indicate intended results and impacts. Grant recipients report against their baseline performance standards. This process standardizes grants progress reporting requirements and promotes greater emphasis on performance and results in grant programs.

Agency form numbers, if applicable: HUD 96010 HSIAC, HUD 96010 Housing Counseling, HUD 96010 Early Doctorial Research, HUD 96010 TA, HUD 96010 Fair Housing PEI, HUD 96010 Fair Housing EOI, HUD 96010 ICDBG, HUD 96010 BEDI, HUD 96010 AN/NHIAC, HUD 96010 TCUP, HUD 96010 ROSS Family/Homeownership, HUD 96010 ROSS Elderly Disabled, HUD 96010 ALCP, HUD 96010 Service Coordinators, HUD 96010 SHOP, HUD 96010 RHED, HUD 96010 Lead TS, HUD 96010 HH TS, HUD 96010 Lead Hazard, Lead Reduction Demo and LEAP, HUD 96010 LOP, HUD 96010 HH Demo, HUD 96010 HOPE VI Main Street, HUD 96010 FHIP, HUD 96010 HBCU, HUD 96010 Section 202, HUD 96010 Section 811, HUD 96010 Youthbuild, HUD 96010 COC, HUD 96010 HOPWA, HUD 96010 Combined Lead, HUD 96010 HCVFSS

Members of Affected Public: Individuals, not-for-profit institutions, State, Local or Tribal Government, Business or other for-profit.

Estimation of the total number of hours needed to prepare the information collection including number of respondents, frequency of response, and hours of response:

Frequency of Submission: On occasion.

| Number of respondents | Annual responses | × | Hours per response | = | Burden hours
Reporting burden | 11,000 | 2.2 |  | 4.51 |  | 109,175

Total Estimated Burden Hours: 109,175.

Status of the proposed information collection: Extension of a currently approved collection.

Authority: Section 3506 of the Paperwork Reduction Act of 1995, 44 U.S.C. Chapter 35, as amended.

Date: August 1, 2007.
Lillian L. Deitzer,
Departmental Paperwork Reduction Act Officer, Office of the Chief Information Officer.

[FR Doc. E7-15359 Filed 8-6-07; 8:45 am]

BILLING CODE 4210-67-P